DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the application described herein.

DATES: Comments must be received on or before February 17, 2026.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on January 9, 2026.
Donald P. Burger,
Chief, General Approvals and Permits Branch.

Application No. | Applicant | Regulation(s) affected | Nature of the special permits thereof
Special Permits Data—Granted
14201-M | National Air Cargo Group, Inc | 172.101(j)(1), 172.204(c)(3), 173.27(b)(2), 173.27(b)(3), 175.30(a)(1) | To modify the special permit to authorize an additional hazardous material.
14940-M | Crown Cork & Seal USA, Inc | 173.306(a)(3), 178.33-1(a), 178.33a-1, 178.33a-2, 178.33a-3, 178.33a-4, 178.33a-5, 178.33a-6, 178.33a-7, 178.33a-8, 178.33a-9, 178.33-2, 178.33-3(a), 178.33-4(a), 178.33-5(a), 178.33-6, 178.33-7, 178.33-8, 178.33-9 | To modify the special permit to authorize cargo aircraft and passenger-carrying aircraft as authorized modes of transportation.
15999-M | National Aeronautics and Space Administration | 172.300, 172.400, 173.1 | To modify the special permit to authorize additional hazardous materials.
20851-M | Call2Recycle, Inc | 172.447 | To modify the special permit to provide an additional relief from the Subpart E labeling requirement in Part 172 of the HMR.
21134-M | GATX Corporation | 179.100-4(a), 179.200-4(a) | To modify the special permit to authorize new tank car owners to operate under the special permit until the next tank car qualification due date.
21661-M | ThermAvant Technologies, LLC | 173.301(f), 173.304(a) | To modify the special permit to authorize cargo-only aircraft as an authorized mode of transportation.
21676-M | Anduril Industries, Inc | 172.101(j), 173.185(a)(1) | To modify the special permit to authorize lithium-ion batteries that have completed all U.N. tests and exceed 35 kg net weight aboard cargo-only aircraft.
21849-M | Amazon.com, Inc | 173.56(b) | To modify the special permit to add additional fire suppressant devices.
21948-N | Amazon.com, Inc | 172.201(a)(2), 172.203(a), 172.602(c), 177.817(a), 177.817(e) | To authorize the transportation in commerce of hazardous materials where an electronic shipping paper is used in lieu of a physical shipping paper document.
22008-N | Beta Technologies, Inc | 172.101(j) | To authorize the transportation in commerce of lithium batteries exceeding 35 kg by cargo-only aircraft.
22056-N | Plastipak Packaging, Inc | 172.203(a), 172.301(c), 178.33b-8, 178.33b-9 | To authorize the manufacture, mark, sale, and use of non-DOT specification non-refillable plastic inside containers for the transportation in commerce of the hazardous materials authorized by the special permit.
22059-M | The Boeing Company | 173.219(c)(5) | To modify the special permit to no longer require the airplane seating assemblies to be wrapped in plastic during transportation.
22080-N | Atlas Air, Inc | 172.101(a), 172.204(c)(3), 173.27(b)(2), 173.27(b)(3), 175.30(a)(1) | To authorize the transportation in commerce of certain Division 1.1, 1.2, 1.3, and 1.4 explosives which are forbidden or exceed quantities authorized for transport by cargo-only aircraft.
22085-N | Amazon.com, Inc | 49 CFR Parts 171-180 | To authorize the transportation in commerce of certain hazardous materials as not subject to the Hazardous Materials Regulations when transported to their final delivery destination.
22086-N | Alton Southern Railway Co. Inc | 172.203(a), 174.24(a) | To authorize the use of electronic means to maintain and communicate on board train consist and shipping paper information in lieu of paper documentation when hazardous materials are transported by rail.
22087-N | Zipline International Inc | 173.1, 173.24, 173.24a, 173.27, 173.159, 173.159a, 173.167, 173.185(c) | To authorize the transportation in commerce of certain hazardous materials as not subject to the HMR when transported to their final delivery destination using unmanned aircraft system described in this special permit.
22110-N | Blue Origin, LLC | 173.301(f)(1), 173.302(a)(1) | To authorize the transportation in commerce of filled non-DOT specification cylinders that are not fitted with a pressure relief device when contained in the New Glenn launch vehicle.
22162-N | DGM Sverige AB | 173.185(a)(1), 173.185(b) | To authorize the transportation in commerce of low production lithium batteries contained in equipment (spacecraft).
Special Permits Data—Denied
Special Permits Data—Withdrawn
21966-N | Tampa Cargo S.A. | 172.101(j) | To authorize the transportation in commerce of certain materials forbidden for transport via air by cargo-only aircraft.
22015-N | Small Business Administration | 172.101(j) | To authorize the transportation in commerce of lithium batteries exceeding 35 kg by cargo-only aircraft.
22118-N | James Supplies, LLC | 171.2(b) | To authorize the manufacture, mark, sale and use of DOT MC 338 cargo tanks for use in the transportation of carbon dioxide, refrigerated liquid.
22150-N | OrthoRPM, Inc | 173.185(a)(1) | To authorize the transportation in commerce of a medical-rehabilitation product with a lithium-ion battery to the United States.
22156-N | Northwest Energetic Services LLC | 172.101, 172.102, 173.242(a), 173.251 | To authorize the transportation in commerce of certain Division 1.5 explosives and/or Division 5.1 oxidizers in portable tanks.

[FR Doc. 2026-00872 Filed 1-15-26; 8:45 am]

BILLING CODE 4910-60-P